DEPARTMENT OF HOMELAND SECURITY

U.S. Customs and Border Protection

Automated Commercial Environment (ACE); Announcement of National Customs Automation Program Test of Automated Procedures for In-Bond Shipments Transiting Through the United States From One Point in Canada to Another Point in Canada

AGENCY: U.S. Customs and Border Protection, Department of Homeland Security.

ACTION: General notice.

SUMMARY: This document announces that U.S. Customs and Border Protection (CBP) plans to conduct a National Customs Automation Program (NCAP) test relating to highway movements of commercial goods that are transported in-bond through the United States from one point in Canada to another point in Canada. The NCAP test designates a new filing code in CBP's Automated Commercial Environment (ACE) Truck Manifest System to identify the shipment as being part of a joint CBP and Canada Border Services Agency (CBSA) In-Transit Project and requires test participants to transmit the manifest electronically and to submit an additional data element. The new filing code and additional data element will enable CBP and the CBSA to better track the movement of these goods, to share information about the in-bond movement and to streamline procedures for test participants. This notice provides a description of the NCAP test process, sets forth eligibility requirements for participation, and invites public comment on any aspect of the planned test.

DATES: The test will commence no earlier than July 13, 2011. Comments concerning this notice and all aspects of the announced test may be submitted at any time during the test period.

ADDRESSES: Written comments concerning program, policy and technical issues should be submitted to Mr. Gary Schreffler, Chief, Cargo Control Branch, Office of Field Operations, U.S. Customs and Border Protection, via e-mail at Gary.R.Schreffler@dhs.gov.

SUPPLEMENTARY INFORMATION:

Background

The National Customs Automation Program (NCAP) was established in Subtitle B of Title VI—Customs Modernization, in the North American Free Trade Agreement Implementation Act (Pub. L. 103-182, 107 Stat. 2057, 2170, December 8, 1993) (Customs Modernization Act). See 19 U.S.C. 1411. The Customs Modernization Act provides the Commissioner of CBP with authority to conduct limited test programs or procedures designed to evaluate planned components of the NCAP. This test is authorized pursuant to § 101.9(b) of the CBP Regulations (19 CFR 101.9(b)) which provides for the testing of NCAP programs or procedures. See T.D. 95-21.

Section 343(a) of the Trade Act of 2002, as amended (the Trade Act; 19 U.S.C. 2071 note), requires CBP to promulgate regulations providing for the mandatory transmission of electronic cargo information by way of a CBP approved electronic data interchange (EDI) system before the cargo is brought into or departs the United States by any mode of commercial transportation (sea, air, rail or truck). The required cargo information is that which is reasonably necessary to enable high-risk shipments to be identified for purposes of ensuring cargo safety and security and preventing smuggling pursuant to the laws enforced and administered by CBP.

On December 5, 2003, CBP published a final rule in the Federal Register (68 FR 68140) to effectuate the provisions of the Trade Act. In particular, a new § 123.92 (19 CFR 123.92) was added to the title 19 regulations to implement the requirements for cargo brought into the United States by truck. As provided in § 123.92, for any inbound truck required to report its arrival under § 123.1(b) that will have commercial cargo aboard, CBP must electronically receive certain information regarding that cargo through a CBP-approved EDI system no later than either 30 minutes or one hour prior to the carrier's reaching the first port of arrival in the United States. As explained in the preamble of the 2003 final rule, the 30 minute time frame applies to truck carriers arriving with shipments qualified for clearance under the FAST (Free and Secure Trade) program.

In a notice published in the Federal Register on October 27, 2006 (71 FR 62922), CBP designated the ACE Truck Manifest System as the approved system for receipt of EDI transmissions of required land border crossing manifest data. ACE was phased in as the required transmission system over a six month period at various ports of entry and CBP now requires ACE to be used for the transmission of advance electronic truck cargo information at every land border port in which CBP had planned to require the use of ACE. See, 72 FR 53789, September 20, 2007.

Highway movements of commercial goods that are transported through the United States from one point in Canada to another point in Canada must be transported in-bond and processed as Transportation and Exportation (T&E) entries. The procedures for these in-bond shipments are addressed in 19 CFR 123.42. Among other things, this regulation requires the filing of a manifest and various reports to CBP and the CBSA regarding the movement of the goods. Although reference is made to a paper manifest, CBP's in-bond process for T&E entries is supported in the ACE Truck Manifest System. The ACE Truck Manifest System enables carriers to submit T&E entries by filing an e-Manifest. This NCAP test requires participants to file their T&E entries using an e-Manifest in the ACE Truck Manifest System and eliminates one of the reporting requirements.

Arrangement Between the Canada Border Services Agency and the Department of Homeland Security, United States Customs and Border Protection Regarding the Highway In-Transit Project

On March 10, 2011, CBP and the CBSA finalized a memorandum of understanding (MOU) titled, “Arrangement Between the Canada Border Services Agency and the Department of Homeland Security, United States Customs and Border Protection Regarding the Highway In-Transit Project.” In the MOU, CBP and the CBSA state their intention to implement the Highway In-Transit Project (In-Transit Project) on a pilot basis for shipments transiting through the United States (from one point in Canada to another point in Canada) and to later jointly assess whether to begin implementing the In-Transit Project on a pilot basis for shipments transiting through Canada (from one point in the United States to another point in the United States), or on a permanent basis for one or both types of transit movements. The MOU provides for the automation of the reporting of in-transit highway movements of commercial goods between Canada and the United States. The MOU specifies the criteria that highway carriers must meet in order to participate in the In-Transit Project and provides for the transmission of pre-arrival cargo (manifest) and conveyance information using mutually identified electronic data interchange (EDI) highway cargo (manifest) and conveyance transaction sets. The MOU further allows for the confidential electronic sharing between the CBSA and CBP of certain manifest information to be used for the purposes of risk assessment and tracking of in-transit highway movement of commercial goods between Canada and the United States.

Implementation of the NCAP Test

In order to facilitate implementation of the In-Transit Project for shipments transiting the United States from one point in Canada to another point in Canada, CBP is implementing this NCAP test to designate a new filing code in the ACE Truck Manifest System for truck carriers participating in the In-Transit Project to indicate that their shipments are being shipped as part of the In-Transit Project. Additionally, under the NCAP test, carriers will file an additional data element, the Canadian Cargo Control Number (CCN), consisting of a CBSA-issued carrier code and a unique reference number assigned by the carrier. The CCN will allow the CBSA and CBP to track in-bond shipments being transported under the NCAP test and will facilitate the closing out of these T&E entries. Carriers will only be required to report their arrival to CBP at the United States port of export and the CBSA will notify CBP when the shipment enters into Canada. At that point, the T&E will be updated in the system as exported.

Eligibility and Acceptance

To participate in this NCAP test, a truck carrier must be a bonded carrier with CBP and the CBSA, be accepted by the CBSA to participate in the In-Transit Project, and must be able to transmit an e-Manifest using the American National Standards Institute (ANSI) X12 format to CBP. For information on how to participate in the In-Transit Project go to the CBSA Web site at: http://www.cbsa-asfc.gc.ca/prog/manif/transit-eng.html.

Carriers that wish to participate in this NCAP test should send a letter or e-mail to CBP stating that they meet the eligibility requirements and that they wish to participate in the NCAP Test of Automated Procedures for Canada-United States-Canada In-Transit Movements. The letter or e-mail must include (1) The carrier's name, (2) Internal Revenue Service number (IRS number), and (3) proof of acceptance by the CBSA to participate in the In-Transit Project. CBP will accept the first nine eligible carriers that apply and will notify the carriers that they have been accepted to participate in the NCAP test. Applications can be submitted at any time during the test and should be submitted to Gary Schreffler, Chief, Cargo Control Branch, Office of Field Operations, U.S. Customs and Border Protection, via e-mail at Gary.R.Schreffler@dhs.gov.

Method of Transmission of Advance Data and Content

Truck carriers participating in this NCAP test will be required to file a T&E entry for the in-bond movement by submitting a complete e-Manifest to CBP using the ANSI X12 format (referred to as a 309 manifest) no later than either 30 minutes or one hour (as applicable) before entering the United States. A complete e-Manifest using the ANSI X12 format includes the following components: Trip, crew, conveyance, equipment, and complete shipment data. At this time, the ACE Secure Data Portal and the United Nations/Electronic Data Interchange for Administration, Commerce and Transport (UN/EDIFACT) are not available for use.

New Filing Code and Data Element

Carriers will indicate that the T&E entry is being filed as part of the In-Transit Project by designating the entry as a type 70 filing. Type 62 filings are currently used for Canadian T&E entries transiting the United States. Additionally, carriers will file an additional data element, the CCN, issued by the CBSA when the shipment leaves Canada. The CCN consists of a CBSA-issued carrier code and a unique reference number assigned by the carrier. The CCN is not required under CBP's current process. The CCN will be used by CBP to notify the CBSA when the shipment crosses into the United States and by the CBSA to notify CBP when the shipment is exported back into Canada.

Processing and Tracking the In-Bond Shipment

The 309 manifest will be processed and retained in ACE as a normal manifest. Upon arrival in the United States, CBP will generate a “transit movement authorized” message (referred to as a 350 message) that will be sent to the carrier and to the CBSA. The shipment will then be able to transit the United States and proceed to the United States port of export as a T&E entry. When the shipment arrives at the United States port of export, the carrier will report the arrival of the shipment to CBP via an EDI message or through their ACE portal account. When the shipment exits the United States and arrives in Canada, the CBSA will transmit a message (referred to as a 353 message) notifying CBP that the shipment has entered Canada. CBP will generate another 350 message and send it to the carrier notifying the carrier that the shipment has entered Canada and that the T&E entry status is exported. At this point the T&E entry will be closed with CBP.

No Diversions of In-Bond Shipment Permitted

Carriers transporting a shipment through the United States as part of this NCAP test will be required to complete the T&E entry by exporting their shipment to Canada. Carriers will not be allowed to divert these shipments to a port that is not a land crossing port between the United States and Canada.

Future Expansion of the Test

Any future expansion in ACE to include a new in-bond filing code for in-transit movements through Canada and back to the United States (U.S-Canada-U.S) or expansion of this test to include other transmission methods, i.e., UN/EDIFACT or ACE Secure Data Portal, will be announced via a separate Federal Register Notice.

Regulatory Provisions Affected

Regulations that conflict with the terms and conditions of this test, namely regulations contained in parts 18 and 123, including section 123.42, are suspended and overridden to the extent of the conflict for the duration of this test for those participants in this test and only to the extent of their participation in this test.

Misconduct

If a test participant fails to abide by the rules, procedures, or term and conditions of this and all other applicable Federal Register Notices, fails to exercise reasonable care in the execution of participant obligations, or otherwise fails to comply with all applicable laws and regulations, then the participant may be suspended from participation in this test and/or subjected to penalties, liquidated damages, and/or other administrative or judicial sanction. Additionally, CBP has the right to suspend a test participant based on a determination that an unacceptable compliance risk exists. Any decision proposing suspension may be appealed in writing to the Assistant Commissioner (Office of Field Operations) within 15 days of the decision date. Such proposed suspension will apprise the participant of the facts or conduct warranting suspension. Should the participant appeal the notice of proposed suspension, the participant should address the facts or conduct charges contained in the notice and state how he has or will achieve compliance. However, in the case of willfulness or where public health interests are concerned, the suspension may be effective immediately.

Test Evaluation Criteria

All interested parties are invited to comment on any aspect of this test at any time. To ensure adequate feedback, participants are required to take part in an evaluation of this test. CBP needs comments and feedback on all aspects of this test, including the design, conduct and implementation of the test, in order to determine whether to modify, alter, expand, limit, continue, end or implement this program by regulation. The final results of the evaluation will be published in the Federal Register and the Customs Bulletin as required by section 101.9 of the CBP Regulations.

Paperwork Reduction Act

As noted above, CBP will be accepting only nine participants in the NCAP test. This means that fewer than ten persons will be subject to any information collections under the NCAP test. Accordingly, collections of information encompassed within this notice are exempted from the requirements of the Paperwork Reduction Act of 1995 (44 U.S.C. 3502 and 3507).

Dated: June 7, 2011.
Thomas Winkowski,
Assistant Commissioner, Office of Field Operations.

[FR Doc. 2011-14536 Filed 6-10-11; 8:45 am]

BILLING CODE 9111-14-P